DEPARTMENT OF ENERGY

Federal Energy Regulatory Commission

Combined Notice of Filings #1

Take notice that the Commission received the following electric rate filings:

Docket Numbers: ER10-2848-003; ER11-1939-005; ER11-2754-005; ER12-999-003; ER12-1002-003; ER12-1005-003; ER12-1006-003; ER12-1007-004.

Applicants: AP Holdings, LLC, AP Gas & Electric (PA), LLC, AP Gas & Electric (TX), LLC, AP Gas & Electric (MD), LLC, AP Gas & Electric (NJ), LLC, AP Gas & Electric (IL), LLC, AP Gas & Electric (OH), LLC, AP Gas & Electric (NY), LLC.

Description: Notification of Non-Material Change in Status of AP Holdings Subsidiaries.

Filed Date: 8/12/13.

Accession Number: 20130812-5233.

Comments Due: 5 p.m. ET 9/3/13.

Docket Numbers: ER10-2985-013; ER10-3049-014; ER10-3051-014.

Applicants: Champion Energy Marketing LLC, Champion Energy Services, LLC, Champion Energy, LLC.

Description: Notice of Change in Status for Champion Energy Marketing LLC, et al.

Filed Date: 8/12/13.

Accession Number: 20130812-5234.

Comments Due: 5 p.m. ET 9/3/13.

Docket Numbers: ER12-1566-003.

Applicants: Copper Mountain Solar 2, LLC.

Description: Notice of Non-Material Change in Status of Copper Mountain Solar 2, LLC.

Filed Date: 8/12/13.

Accession Number: 20130812-5238.

Comments Due: 5 p.m. ET 9/3/13.

Take notice that the Commission received the following electric securities filings:

Docket Numbers: ES13-38-000.

Applicants: MDU Resources Group, Inc.

Description: MDU Resources Group, Inc.'s Amendment to July 30, 2013 Application to increase its short term borrowings.

Filed Date: 8/13/13.

Accession Number: 20130813-5046.

Comments Due: 5 p.m. ET 8/23/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 13, 2013.
Nathaniel J. Davis, Sr.,
Deputy Secretary.

[FR Doc. 2013-20401 Filed 8-20-13; 8:45 am]

BILLING CODE 6717-01-P